DEPARTMENT OF STATE

[Public Notice #3683]

Notice of Discussions on ENUM

On August 15, 2001 from 9:00 to noon, the State Department Communications and Information Policy Division will hold a meeting to address issues associated with potential international implementation of ENUM (Electronic Numbering). This meeting will be held in conjunction with a meeting of US Study Group A of the State Department's International Telecommunication Advisory Committee to be held at the Department of State, Room 1207, 2201 “C” Street, NW., Washington, DC.

The meeting will take as a starting point the report of the Study Group A ENUM ad hoc committee (available from minardje@state.gov) and will address issues that the Government can use in preparing positions to take before a September meeting of the International Telecommunication Union, Telecommunication Standardization Study Group 2. The meeting will not attempt to resolve national policy concerns surrounding ENUM deployment in the U.S.

Members of the general public may attend this forum. Directions to meeting location may be determined by calling the Secretariat at 202 647-0965/2592. Entrance to the building is controlled; people intending to attend this forum should send an e-mail to samuelsrn@state.gov no later than 48 hours before the meeting for preclearance. This e-mail should display the name of the meeting and date of meeting, your name, social security number, date of birth, and organizational affiliation. One of the following valid photo identifications will be required for admission: U.S. driver's license, passport, U.S. Government identification card. Enter the Department of State from the C Street Lobby; in view of escorting requirements, non-Government attendees should plan to arrive not less than 15 minutes before the meeting begins.

Attendees may join in the discussions, subject to the instructions of the Chair. Admission of members will be limited to seating available.

Dated: August 1, 2001.
Marian R. Gordon,
Director, Telecommunication & Information Standardization, Department of State

[FR Doc. 01-19768 Filed 8-2-01; 3:09 pm]

BILLING CODE 4710-45-U